DEPARTMENT OF HEALTH AND HUMAN SERVICES

Agency Information Collection Activities; Proposed Collection; Public Comment Request

AGENCY: Electronic Government Office, Department of Health and Human Services.

ACTION: Notice.

SUMMARY: In compliance with section 3506(c)(2)(A) of the Paperwork Reduction Act of 1995, Grants.gov (EGOV), Department of Health and Human Services, announces plans to submit an Information Collection Request (ICR), described below, to the Office of Management and Budget (OMB). The ICR is for a 3 year renewal of a previously-approved information collection assigned OMB control number 4040-0007—SF-424 B Assurances for Non-Construction Programs, which expired on June 30, 2014. The ICR also requests categorizing the form as a common form, meaning HHS will only request approval for its own use of the form rather than aggregating the burden estimate across all Federal Agencies as was done for previous actions on this OMB control number. Prior to submitting that ICR to OMB, EGOV seeks comments from the public regarding the burden estimate, below, or any other aspect of the ICR.

DATES: The 60-day Comment Period closed on January 5, 2015. No comments were received. Comments on the ICR must be received on or before March 13, 2015.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: Form is available upon request.

Information Collection Request Title: SF-424 B Assurances for Non-Construction Programs.

Abstract: SF-424 B Assurances for Non-Construction Programs is used as by the grant applicant when requesting funds for non-construction grant programs.

Need and Proposed Use of the Information: The SF-424 B Assurances for Non-Construction Programs form is used as by the grant applicant when requesting funds for non-construction grant programs. The Federal awarding agencies use information submitted on this form for award determination of the Federal assistance awards programs.

Likely Respondents: Federal grant applicants.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
| 40,000 | 1 | 1 | 40,000
Total | 40,000 | 1 | 1 | 40,000

Grants.gov specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2015-02764 Filed 2-10-15; 8:45 am]

BILLING CODE 4150-37-P